DEPARTMENT OF COMMERCE

Office of the Secretary

Estimates of the Voting Age Population for 2001

AGENCY: Office of the Secretary, Commerce.

ACTION: General notice announcing population estimates.

SUMMARY: This notice announces the voting age population estimates, as of July 1, 2001, for each state and the District of Columbia. We are giving this notice in accordance with the 1976 amendment to the Federal Election Campaign Act, Title 2, United States Code, Section 441a(e).

FOR FURTHER INFORMATION CONTACT: John F. Long, Chief, Population Division, Bureau of the Census, Department of Commerce, Room 2011, Federal Building 3, Washington, DC 20233, telephone (301) 457-2071.

SUPPLEMENTARY INFORMATION: Under the requirements of the 1976 amendment to the Federal Election Campaign Act, Title 2, United States Code, Section 441a(e), I hereby give notice that the estimates of the voting age population for July 1, 2001, for each state and the District of Columbia are as shown in the following table:

Estimates of the Population of Voting Age for Each State and the District of Columbia: July 1, 2001
(In Thousands)
Area | Population 18 and over
United States | 212,245
Alabama | 3,327
Alaska | 444
Arizona | 3,825
Arkansas | 1,998
California | 24,800
Colorado | 3,264
Connecticut | 2,609
Delaware | 598
District of Columbia | 457
Florida | 12,566
Georgia | 6,119
Hawaii | 920
Idaho | 945
Illinois | 9,349
Indiana | 4,619
Iowa | 2,196
Kansas | 2,037
Kentucky | 3,065
Louisiana | 3,229
Maine | 1,013
Maryland | 3,969
Massachusetts | 4,958
Michigan | 7,525
Minnesota | 3,773
Mississippi | 2,077
Missouri | 4,202
Montana | 681
Nebraska | 1,273
Nevada | 1,544
New Hampshire | 965
New Jersey | 6,548
New Mexico | 1,326
New York | 14,406
North Carolina | 6,114
North Dakota | 495
Ohio | 8,648
Oklahoma | 2,580
Oregon | 2,611
Pennsylvania | 9,476
Rhode Island | 813
South Carolina | 3,037
South Dakota | 571
Tennessee | 4,331
Texas | 15,205
Utah | 1,544
Vermont | 480
Virginia | 5,386
Washington | 4,460
West Virginia | 1,404
Wisconsin | 4,092
Wyoming | 371

I have certified these counts to the Federal Election Commission.

Dated: March 26, 2002.
Donald L. Evans,
Secretary, Department of Commerce.

[FR Doc. 02-7909 Filed 4-1-02; 8:45 am]

BILLING CODE 3510-07-P